DEPARTMENT OF HOMELAND SECURITY

Coast Guard

33 CFR Part 117

[USCG-2013-0542]

Drawbridge Operation Regulations; Arthur Kill, NY

AGENCY: Coast Guard, DHS.

ACTION: Notice of temporary deviation from regulations.

SUMMARY: The Commander, First Coast Guard District, has issued a temporary deviation from the regulations governing the operation of the Arthur Kill AK Railroad Bridge across Arthur Kill, mile 11.6, between Staten Island, New York and Elizabeth, New Jersey. Under this temporary deviation the bridge may remain in the closed position for four days to facilitate scheduled maintenance. This deviation is necessary to facilitate tie and miter rail replacement on the lift span.

DATES: This deviation is effective from July 19, 2013 through July 31, 2013, and has been enforced with actual notice since July 17, 2013.

ADDRESSES: The docket for this deviation, [USCG-2013-0542] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call Joe Arca, Project Officer, First Coast Guard District, at (212) 668-7165, joe.m.arca@uscg.mil. If you have questions on viewing the docket, call Barbara Hairston, Program Manager, Docket Operations, telephone (202) 366-9826.

SUPPLEMENTARY INFORMATION: The AK Railroad Bridge, across Arthur Kill, mile 11.6, between Staten Island, New York and Elizabeth, New Jersey has a vertical clearance in the closed position of 31 feet at MHW and 35 feet at MLW. The existing drawbridge operation regulations are listed at 33 CFR § 117.702.

The waterway supports both commercial and recreational navigation of various vessel sizes.

The operator of the bridge, Conrail, requested a temporary deviation to facilitate scheduled maintenance, tie and miter rail replacement at the bridge.

The bridge must remain in the closed position to perform this maintenance.

Under this temporary deviation the draw may remain in the closed position as follows:

On July 17, 2013 from 6:30 a.m. to 10:40 a.m. and from 12:50 p.m. to 4:40 p.m.

On July 18, 2013 from 7:30 a.m. to 11:35 a.m. and from 2:40 p.m. to 5:44 p.m.

On July 30, 2013 from 6:30 a.m. to 10:43 and from 12:43 p.m. to 4:35 p.m.

On July 31, 2013 from 7:30 a.m. to 11:35 a.m. and from 1:40 p.m. to 5 p.m.

There are no alternate routes for vessel traffic. The bridge can be opened in an emergency.

In accordance with 33 CFR 117.35(e), the bridge must return to its regular operating schedule immediately at the end of the designated time period. This deviation from the operating regulations is authorized under 33 CFR 117.35.

Dated: July 8, 2013.
Gary Kassof,
Bridge Program Manager, First Coast Guard District.

[FR Doc. 2013-17321 Filed 7-18-13; 8:45 am]

BILLING CODE 9110-04-P